ENVIRONMENTAL PROTECTION AGENCY

[FRL-9267-7]

Auclair Superfund Site; Notice of Proposed Administrative Settlement Pursuant to the Comprehensive Environmental Response, Compensation, and Liability Act

AGENCY: Environmental Protection Agency (EPA).

ACTION: Notice; request for public comment.

SUMMARY: In accordance with section 122(i) of the Comprehensive Environmental Response, Compensation, and Liability Act, as amended (“CERCLA”), 42 U.S.C. 9622(i), notice is hereby given of a proposed administrative settlement (Region 9 Docket No. 2011-02), pursuant to Section 122(h) of CERCLA, concerning the Auclair Superfund Site (the “Site”), located on the Torres Martinez Desert Cahuilla Indian Reservation, Riverside County, California. The settling party is Belmont Produce Sales, Inc. (“Settling Party”). In the Agreement, the Settling Party will reimburse the United States $25,000 for response costs incurred at the Site. For thirty (30) days following the date of publication of this Notice, the Agency will receive written comments relating to the proposed settlement. The Agency's response to any comments received will be available for public inspection at EPA's Region IX offices, located at 75 Hawthorne Street, San Francisco, California 94105. The EPA will consider all comments it receives during this period, and may modify or withdraw its consent to the settlement if any comments disclose facts or considerations indicating that the settlement is inappropriate, improper, or inadequate.

DATES: EPA will receive written comments relating to the settlement until March 21, 2011.

ADDRESSES: The proposed settlement agreement may be obtained from the U.S. EPA Superfund Records Center, telephone (415) 536-2000. Written comments regarding the proposed settlement should be addressed to Letitia Moore, Office of Regional Counsel, at the U.S. Environmental Protection Agency Region IX, 75 Hawthorne Street (mail code ORC-3), San Francisco, California 94105-3901, and should reference the Auclair Superfund Site and Region IX Docket No. 2011-02.

FOR FURTHER INFORMATION CONTACT: Letitia Moore, Office of Regional Counsel, (415) 972-3928, U.S. Environmental Protection Agency Region IX, 75 Hawthorne Street (mail code ORC-3), San Francisco, California 94105-3901.

Dated: February 8, 2011.
Dan Meer,
Assistant Director, Emergency Response, Preparedness & Prevention Branch, Superfund Division, Region IX.

[FR Doc. 2011-3614 Filed 2-16-11; 8:45 am]

BILLING CODE 6560-50-P